DEPARTMENT OF LABOR

Employment and Training Administration

Investigations Regarding Eligibility To Apply for Worker Adjustment Assistance

Petitions have been filed with the Secretary of Labor under Section 221(a) of the Trade Act of 1974 (“the Act”) and are identified in the Appendix to this notice. Upon receipt of these petitions, the Administrator of the Office of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing provided such request is filed in writing with the Administrator, Office of Trade Adjustment Assistance, at the address shown below, no later than May 28, 2019.

Interested persons are invited to submit written comments regarding the subject matter of the investigations to the Administrator, Office of Trade Adjustment Assistance, at the address shown below, not later than May 28, 2019.

The petitions filed in this case are available for inspection at the Office of the Administrator, Office of Trade Adjustment Assistance, Employment and Training Administration, U.S. Department of Labor, Room N-5428, 200 Constitution Avenue NW, Washington, DC 20210.

Signed at Washington, DC, this 12th day of April 2019.
Hope D. Kinglock,
Certifying Officer, Office of Trade Adjustment Assistance.

Appendix

105 TAA Petitions Instituted Between 3/1/19 and 3/31/19
TA-W | Subject firm (petitioners) | Location | Date of institution | Date of petition
94572 | Bank of the West (State/One-Stop) | City of Industry, CA | 03/01/19 | 02/28/19
94573 | RCO Engineering (State/One-Stop) | Warren, MI | 03/01/19 | 02/28/19
94574 | Hanesbrands, Inc. (Workers) | New York, NY | 03/01/19 | 02/27/19
94575 | Nucor Skyline Steel, LLC (State/One-Stop) | Newton, IL | 03/01/19 | 03/01/19
94576 | Optum Technology (State/One-Stop) | Eden Prairie, MN | 03/01/19 | 02/28/19
94577 | Valmont Microflect Company (State/One-Stop) | Salem, OR | 03/01/19 | 02/28/19
94578 | ATT (Union) | Kalamazoo, MI | 03/04/19 | 03/01/19
94579 | Beckman Coulter, Inc. (State/One-Stop) | Brea, CA | 03/04/19 | 03/01/19
94580 | Faurecia (Workers) | Dexter, MO | 03/04/19 | 03/01/19
94581 | KEMET Blue Powder Corporation (Company) | Mound House, NV | 03/04/19 | 03/03/19
94582 | Liberty Mutual Group, Inc. (State/One-Stop) | Tigard, OR | 03/04/19 | 03/01/19
94583 | Molina Healthcare (State/One-Stop) | Long Beach, CA | 03/04/19 | 03/02/19
94584 | Wireless Seismic (Workers) | Sugar Land, TX | 03/04/19 | 01/26/19
94585 | A360 Firm Solutions, LLC (Company) | Jacksonville, FL | 03/05/19 | 03/01/19
94586 | EVRAZ Oregon Steel Mill (State/One-Stop) | Portland, OR | 03/05/19 | 03/04/19
94587 | Ford Flat Rock Assembly Plant (Union) | Flat Rock, MI | 03/05/19 | 03/04/19
94588 | Husqvarna Consumer Outdoor Products N.A., Inc. (Company) | McRae, GA | 03/05/19 | 03/04/19
94589 | Startek (State/One-Stop) | Lynchburg, VA | 03/05/19 | 03/04/19
94590 | Austin Foam Plastic, Inc. (Company) | El Paso, TX | 03/06/19 | 03/05/19
94591 | Dakkota Integrated Systems, LLC (Union) | Brownstown, MI | 03/06/19 | 03/05/19
94592 | Entergy Nuclear Operations, Inc. (Company) | Plymouth, MA | 03/06/19 | 03/05/19
94593 | General Motors (Customer Care and Aftercare) (State/One-Stop) | West Chester, OH | 03/06/19 | 03/05/19
94594 | New Holland Apparel-Tegra (Workers) | New Holland, PA | 03/06/19 | 03/05/19
94595 | The Travelers Indemnity Company (State/One-Stop) | Elmira, NY | 03/06/19 | 03/05/19
94596 | GMI Holdings Inc. (State/One-Stop) | Baltic, OH | 03/07/19 | 03/06/19
94597 | FCA US LLC (Union) | Belvidere, IL | 03/07/19 | 03/06/19
94598 | Dart Industries Inc. (Tupperware Brands) (Workers) | Orlando, FL | 03/07/19 | 03/06/19
94599 | Alliance Rubber Company (State/One-Stop) | Salinas, CA | 03/08/19 | 03/07/19
94600 | General Electric Company (State/One-Stop) | Erie, PA | 03/08/19 | 03/07/19
94601 | GTT (Workers) | Lemont Furnace, PA | 03/08/19 | 03/07/19
94602 | Parker Hannifin (State/One-Stop) | Lynchburg, VA | 03/08/19 | 03/07/19
94603 | Planar Systems, Inc. (State/One-Stop) | Hillsboro, OR | 03/08/19 | 03/07/19
94604 | Bear Island Paper WB LLC (State/One-Stop) | Ashland, VA | 03/11/19 | 03/08/19
94605 | Ingersoll Rand (Union) | Cheektowaga, NY | 03/11/19 | 03/08/19
94606 | PPG Coatings Services (State/One-Stop) | Livonia, MI | 03/11/19 | 03/08/19
94607 | State Street Corporation (State/One-Stop) | Hadley, MA | 03/11/19 | 03/08/19
94608 | JW Aluminum Co. (State/One-Stop) | Russellville, AR | 03/12/19 | 03/11/19
94609 | QBE Americas, Inc. (Workers) | Sun Prairie, WI | 03/12/19 | 03/11/19
94610 | ATT (Union) | Indianapolis, IN | 03/13/19 | 03/12/19
94611 | Collard Rose (State/One-Stop) | Whittier, CA | 03/13/19 | 03/12/19
94612 | Frank Morrow Company (State/One-Stop) | Providence, RI | 03/13/19 | 03/12/19
94613 | Hawkins Architectural Products, LLC (State/One-Stop) | Stafford, VA | 03/13/19 | 03/08/19
94614 | Airespring (State/One-Stop) | Van Nuys, CA | 03/14/19 | 03/13/19
94615 | Allied Global LLC (Workers) | Johnstown, PA | 03/14/19 | 03/13/19
94616 | BiTech Bikes/Performance Bicycles (State/One-Stop) | Vienna, VA | 03/14/19 | 03/13/19
94617 | Bose Corporation—Park Place facility (Company) | Framingham, MA | 03/14/19 | 02/28/19
94618 | Columbus Bakery (State/One-Stop) | Columbus, OH | 03/14/19 | 03/13/19
94619 | Connexions Loyalty (Workers) | Boise, ID | 03/14/19 | 03/11/19
94620 | Cotiviti USA, LLC (Workers) | Wilton, CT | 03/14/19 | 03/13/19
94621 | Lumina Datamatics Inc. (Company) | Plymouth, MA | 03/14/19 | 03/13/19
94622 | Micron Technology, Inc. (State/One-Stop) | Boise, ID | 03/14/19 | 03/13/19
94623 | Aptiv (State/One-Stop) | Warren, MI | 03/15/19 | 03/15/19
94624 | The Goodyear Tire & Rubber Company (State/One-Stop) | Danville, VA | 03/15/19 | 03/13/19
94625 | KGP Telecommunications, LLC (State/One-Stop) | Warsaw, IN | 03/15/19 | 03/14/19
94626 | Nordson Xaloy (State/One-Stop) | Pulaski, VA | 03/15/19 | 03/14/19
94627 | Toppan Merrill (State/One-Stop) | Saint Paul, MN | 03/15/19 | 03/12/19
94628 | UPS-Global Business Services (GBS) (State/One-Stop) | Visalia, CA | 03/15/19 | 03/14/19
94629 | Deluxe Entertainment Service Group (Distribution Group) (State/One-Stop) | Burbank, CA | 03/18/19 | 03/15/19
94630 | Emerald Performance Materials (Workers) | Akron, OH | 03/18/19 | 03/11/19
94631 | Formation Capital Corporation (State/One-Stop) | Salmon, ID | 03/18/19 | 03/15/19
94632 | GigaMedia Access Corporation (State/One-Stop) | Herndon, VA | 03/18/19 | 03/15/19
94633 | Masonite Corporation (Company) | Denmark, SC | 03/18/19 | 03/17/19
94634 | Mersen USA (State/One-Stop) | Newburyport, MA | 03/18/19 | 03/15/19
94635 | Porcelain Industries, Inc. (Company) | Dickson, TN | 03/18/19 | 03/15/19
94636 | Superwinch, LLC (State/One-Stop) | Tualatin, OR | 03/18/19 | 03/15/19
94637 | Survey.com (Bet Informations Systems Inc.) (State/One-Stop) | Portland, OR | 03/18/19 | 03/15/19
94638 | The TJX Companies (State/One-Stop) | New Albany, OH | 03/18/19 | 03/15/19
94639 | Adair Printing Co., Inc. (State/One-Stop) | Standish, MI | 03/19/19 | 03/18/19
94640 | American Tire Distributors (Workers) | Wytheville, VA | 03/19/19 | 03/18/19
94641 | CDI Corporation (Workers) | Cross Lanes, WV | 03/19/19 | 03/18/19
94642 | Maxim Integrated Products Inc. (State/One-Stop) | Beaverton, OR | 03/19/19 | 03/18/19
94643 | Netflix (State/One-Stop) | Los Gatos, CA | 03/19/19 | 03/18/19
94644 | Georgia Pacific DBA: Baton Rouge Parish Plant (State/One-Stop) | Baton Rouge, LA | 03/20/19 | 03/19/19
94645 | Sensata Technologies, Inc. (State/One-Stop) | Thousand Oaks, CA | 03/20/19 | 03/19/19
94646 | Smith & Nephew (Company) | Austin, TX | 03/20/19 | 03/19/19
94647 | Stearns Lending, LLC (State/One-Stop) | Santa Ana, CA | 03/20/19 | 03/19/19
94648 | Faurecia Interior Systems (State/One-Stop) | Lansing, MI | 03/21/19 | 03/20/19
94649 | Gannett Satellite Information Network, LLC (State/One-Stop) | Louisville, KY | 03/21/19 | 03/20/19
94650 | International Automotive Components (Union) | Greencastle, IN | 03/21/19 | 03/20/19
94651 | Kerry Inc. (State/One-Stop) | Kentwood, MI | 03/21/19 | 03/21/19
94652 | Natera (State/One-Stop) | Austin, TX | 03/21/19 | 03/20/19
94653 | Biomedica Diagnostics/Biomedica ADI Inc. (State/One-Stop) | Stamford, CT | 03/22/19 | 03/20/19
94654 | Resolute FP US Inc. (Workers) | Catawba, SC | 03/22/19 | 03/13/19
94655 | Lowe's Home Center (State/One-Stop) | Kirkland, WA | 03/25/19 | 03/22/19
94656 | Alliance (State/One-Stop) | Hot Springs, AR | 03/26/19 | 03/25/19
94657 | Hanesbrands, Inc. (State/One-Stop) | Clarksville, AR | 03/26/19 | 03/25/19
94658 | Reynolds Consumer Products (State/One-Stop) | Malvern, AR | 03/26/19 | 03/25/19
94659 | TTEC Healthcare Solutions (State/One-Stop) | Morrilton, AR | 03/26/19 | 03/25/19
94660 | Warne Scope Mounts (State/One-Stop) | Tualatin, OR | 03/26/19 | 03/25/19
94661 | Winchester Interconnect Corporation (Workers) | Middlebury, CT | 03/26/19 | 03/14/19
94662 | Aleris (State/One-Stop) | Lincolnshire, IL | 03/27/19 | 03/26/19
94663 | Assurant (State/One-Stop) | Woodbury, MN | 03/27/19 | 03/26/19
94664 | The Goodyear Tire & Rubber Company (Union) | Gadsden, AL | 03/27/19 | 03/26/19
94665 | San Juan Unified Schools (State/One-Stop) | Carmichael, CA | 03/27/19 | 03/26/19
94666 | TAHARI ASL, LLC (Workers) | New York, NY | 03/27/19 | 02/28/19
94667 | Welspun Tubular LLC (State/One-Stop) | Little Rock, AR | 03/27/19 | 03/26/19
94668 | ATT Mobility (Union) | Oklahoma City, OK | 03/28/19 | 03/27/19
94669 | Gannett Co, Inc. (State/One-Stop) | McLean, VA | 03/28/19 | 03/27/19
94670 | Harsco Rail (Company) | Ludington, MI | 03/28/19 | 03/27/19
94671 | Lear Corporation (Company) | Morristown, TN | 03/28/19 | 03/27/19
94672 | Outsource Management Services (State/One-Stop) | Costa Mesa, CA | 03/28/19 | 03/27/19
94673 | Liberty Mutual Insurance Company (Workers) | Allentown, PA | 03/29/19 | 03/28/19
94674 | LSC Communications US, LLC (State/One-Stop) | St. George, UT | 03/29/19 | 03/28/19
94675 | Wells Fargo Vendor Financial Services (Workers) | Macon, GA | 03/29/19 | 03/28/19
94676 | Wells Fargo Vendor Financial (Workers) | Macon, GA | 03/29/19 | 03/28/19

[FR Doc. 2019-09987 Filed 5-14-19; 8:45 am]

BILLING CODE 4510-FN-P